DEPARTMENT OF COMMERCE

International Trade Administration

[A-555-001, A-560-836, A-557-818, A-801-002, A-549-841, A-489-841, A-552-827]

Mattresses From Cambodia, Indonesia, Malaysia, Serbia, Thailand, the Republic of Turkey, and the Socialist Republic of Vietnam: Postponement of Preliminary Determinations in the Less-Than-Fair-Value Investigations

AGENCY: Enforcement and Compliance, International Trade Administration, Department of Commerce.

DATES: Applicable August 11, 2020.

FOR FURTHER INFORMATION CONTACT: John McGowan at (202) 482-3019 or Preston Cox at (202) 482-5041 (Cambodia); Janae Martin at (202) 482-0238 or Michael Bowen at (202) 482-0768 (Indonesia); Joshua Simonidis at (202) 482-0608 (Malaysia); Joshua DeMoss at (202) 482-3362 (Serbia); Paola Aleman-Ordaz at (202) 482-4031 (Thailand); Jacob Keller at (202) 482-4849 (the Republic of Turkey (Turkey)); Dakota Potts at (202) 482-0223 (the Socialist Republic of Vietnam (Vietnam)), AD/CVD Operations, Enforcement and Compliance, International Trade Administration, U.S. Department of Commerce, 1401 Constitution Avenue NW, Washington, DC 20230.

SUPPLEMENTARY INFORMATION:

Background

On April 20, 2020, the Department of Commerce (Commerce) initiated less-than-fair-value (LTFV) investigations of imports of mattresses from Cambodia, Indonesia, Malaysia, Serbia, Thailand, Turkey, and Vietnam.¹ Currently, the preliminary determinations are due no later than September 8, 2020.²

¹ See Mattresses from Cambodia, Indonesia, Malaysia, Serbia, Thailand, the Republic of Turkey, and the Socialist Republic of Vietnam: Initiation of Less-Than-Fair-Value Investigations, 85 FR 23002 (April 24, 2020).

² The current deadline for the preliminary determinations falls on Labor Day, September 7, 2020. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On July 30, 2020, the petitioners ³ submitted a timely request that Commerce postpone the preliminary determinations in these LTFV investigations.⁴ The petitioners stated that they request postponement to provide adequate time for Commerce to analyze complex issues, to accommodate extensions of time provided to respondents to complete e.g., questionnaires and supplemental questionnaires, and to provide Commerce additional time to conduct a thorough analysis, including by issuing additional supplemental questionnaires.⁵

³ The petitioners are Brooklyn Bedding; Corsicana Mattress Company; Elite Comfort Solutions; FXI, Inc.; Innocor, Inc.; Kolcraft Enterprises, Inc.; Leggett & Platt, Incorporated; the International Brotherhood of Teamsters; and United Steel, Paper and Forestry, Rubber, Manufacturing, Energy, Allied Industrial and Service Workers International Union, AFL-CIO (USW).

⁴ See Petitioners' Letter, “Mattresses from Cambodia, China, Indonesia, Malaysia, Serbia, Thailand, Turkey, and Vietnam: Request to Extend Preliminary Results and Align the Countervailing Duty Investigation with the Concurrent Antidumping Duty Investigations,” dated July 30, 2020.

⁵ Id. at 2.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than October 27, 2020. In accordance with section 735(a)(1) of the Act and 19 CFR 351.210(b)(1), the deadline for the final determinations these investigations will continue to be 75 days after the date of the preliminary determinations, unless postponed at a later date.

This notice is issued and published pursuant to section 733(c)(2) of the Act and 19 CFR 351.205(f)(1).

Dated: August 5, 2020.
Jeffrey I. Kessler,
Assistant Secretary for Enforcement and Compliance.

[FR Doc. 2020-17531 Filed 8-10-20; 8:45 am]

BILLING CODE 3510-DS-P